DEPARTMENT OF HEALTH AND HUMAN SERVICES

Health Resources and Services Administration

Part C Early Intervention Services Grant

AGENCY: Health Resources and Services Administration, HHS.

ACTION: Notice of Noncompetitive Replacement Award.

SUMMARY: The Health Resources and Services Administration (HRSA) is issuing a non-competitive replacement award of Part C Early Intervention Services funds under Title XXVI of the Public Health Service Act, as amended by the Ryan White HIV/AIDS Treatment Modernization Act of 2006, to the Reading Hospital for services previously provided by the St. Joseph Medical Center in order to ensure continuity of critical HIV medical care and treatment services and to avoid a disruption of HIV clinical care to clients in the city of Reading, Pennsylvania, and all of Berks and Schuylkill Counties.

SUPPLEMENTARY INFORMATION:

Grantee of Record: St. Joseph Medical Center.

Intended Recipient of the Award: The Reading Hospital and Medical Center.

Amount of the Award: $334,051.

Authority: Section 2651 of the Public Health Service Act, 42 U.S.C. 300ff-51.

CFDA Number: 93.918.

Project Period: The period of support for the replacement award is from March 1, 2009, to March 31, 2010.

Justification for the Exception to Competition:

Critical funding for HIV medical care and treatment services to clients in the city of Reading, as well as Berks and Schuylkill counties in Pennsylvania, will be continued through a noncompetitive replacement award to the Reading Hospital. This is a temporary replacement award as the previous grant recipient serving this population notified HRSA that it could not continue providing services after February 27, 2009, (the original competitive project period was July 1, 2006, through June 30, 2009). The Reading Hospital is the best qualified grantee for this supplement for the following reasons: It is in the same locality as former grantee; it currently provides HIV medical care to many of the former grantee's clients; and it has the capability of providing comprehensive HIV/AIDS services to the city of Reading and nearby counties. The Reading Hospital is able to continue providing critical services to the service population as originally supported under the award to St. Joseph's Medical Center while the service area is re-competed.

This supplement will cover the time period from March 1, 2009, through March 31, 2010. This service area will be included in the upcoming competition for the Part C HIV Early Intervention Services (EIS) competing application process for project periods starting April 1, 2010.

FOR FURTHER INFORMATION CONTACT: Maria C. Rios, via e-mail, mrios@hrsa.gov, or via telephone, 301-443-0493.

Dated: April 17, 2009.
Marcia K. Brand,
Administrator.

[FR Doc. E9-9382 Filed 4-23-09; 8:45 am]

BILLING CODE 4165-15-P